DEPARTMENT OF STATE

[Public Notice: 11802]

Public Meeting of the U.S. President's Emergency Plan for AIDS Relief (PEPFAR) Scientific Advisory Board

ACTION: Notice of public meeting.

SUMMARY: In accordance with the Federal Advisory Committee Act, the U.S. Department of State announces that the PEPFAR Scientific Advisory Board (SAB) will be holding a virtual meeting of the full board. The meeting will be open to the public; a public comment session will be held during the meeting. Pre-registration is required for both public viewing and comment.

DATES: The meeting will be held on Thursday, September 8, 2022, from approximately 8 a.m. to 1 p.m. (EDT) utilizing an online platform. Individuals wishing to view are asked to pre-register at https://forms.gle/FrENNQyoX8Xav2zp8.

ADDRESSES: The agenda is briefly summarized below and will also be sent to all registrants. It will also be posted on the PEPFAR SAB web page at www.state.gov/scientific-advisory-board-pepfar one week in advance of the meeting, along with instructions on how to access the meeting. Requests to view the meeting must be received no later than August 31, 2022. Requests for reasonable accommodations must be received no later than August 31, 2022. Requests made after August 31, 2022, will be considered but might not be able to be fulfilled.

FOR FURTHER INFORMATION CONTACT: Dr. Sara Klucking, Designated Federal Officer for the SAB, Office of the U.S. Global AIDS Coordinator and Health Diplomacy at KluckingSR@state.gov or (202) 615-4350.

SUPPLEMENTARY INFORMATION:

Background: The SAB is established under the general authority of the Secretary of State and the Department of State (“the Department”) as set forth in 22 U.S.C. 2656, and consistent with the Federal Advisory Committee Act, as amended (5 U.S.C. Appendix). The SAB serves the U.S. Global AIDS Coordinator solely in an advisory capacity concerning scientific, implementation, and policy issues related to the global response to HIV/AIDS.

Agenda: SAB members will be discussing two topics: considerations for PEPFAR implementation of tools for recent HIV infection surveillance and considerations for PEPFAR implementation of the dapivirine vaginal ring. Meeting materials from prior SAB meetings may be accessed here: www.state.gov/scientific-advisory-board-pepfar.

Public comment: Members of the public who wish to view the meeting are asked to register directly at the link listed in the DATES and ADDRESSES section or by sending an email to Dr. Sara Klucking at KluckingSR@state.gov not later than August 31, 2022. Individuals are required to provide their name, email address, and organization. Individuals interested in making a public comment at the meeting should indicate interest with their registration. Registered members of the public wishing to make a comment will be permitted to participate in a comment period in accordance with the Chair's instructions. In addition, the Department will consider any written comments provided within 10 days after the meeting to Dr. Sara Klucking at KluckingSR@state.gov.

Sara Klucking,
Director, Office of Research and Science, Office of the U.S. Global AIDS Coordinator and Health Diplomacy, Office of the Secretary of State, Department of State.

[FR Doc. 2022-17085 Filed 8-9-22; 8:45 am]

BILLING CODE 4710-10-P